DEPARTMENT OF THE INTERIOR

Fish and Wildlife Service

Issuance of National Gas Pipeline Permit

AGENCY: Fish and Wildlife Service, Department of the Interior.

ACTION: Notice.

SUMMARY: Notice is hereby given as required under Section 28 of the Mineral Leasing Act of 1920 (41 Stat. 449; 30 U.S.C. 185) as amended by Public Law 93-153, that Gulf Liquids New River Project L.L.C., Gonzalez, Louisiana, has applied for a right-of-way for a 10-inch pipeline crossing a portion of the Bayou Savauge National Wildlife Refuge, in Orleans Parish, Louisiana.

This notice advises the public that the Fish and Wildlife Service plans to issue a permit to Gulf Liquids New River Project L.L.C., for 30-foot-wide right-of-way for the construction, operation and maintenance of 10-inch natural gas pipeline crossing under a portion of the Bayou Savauge National Wildlife Refuge. Right-of-way will cross a corner of the refuge for a distance of approximately 136 feet and will be adjacent to existing sewer and waterline rights-of-way. Approximately 8,000 square feet of refuge surface will be used temporarily for construction purposes. Wetland restoration measures are stipulated and costs will be borne by applicant.

EFFECTIVE DATE: Interested persons desiring to comment on this application should do so on or before November 27, 2000.

ADDRESSES: If you wish to comment, you may submit your comments by any one of several methods. You may mail comments to Regional Director, U.S. Fish and Wildlife Service, 1875 Century Boulevard, Atlanta, Georgia 30345. You may also comment via the Internet to Sam_Hamilton@fws.gov. Please submit Internet comments as an ASCHII file. Include “Attn: Harry Flaaten” and your name and home address in your message. You may also hand-deliver your comments to the Regional Director at the address given above. Our practice is to make comments, including names and addresses of respondents, available for public review during regular business hours. Respondents may request, prominently at the beginning of their comments, that we withhold their identity and home address from the rulemaking record, which we will honor to the extent allowable by law. We will make all submissions from organizations or business, and from individuals identifying themselves as representatives or officials of organizations or businesses, available to the public in their entirety. We will not consider anonymous comments.

FOR FURTHER INFORMATION CONTACT: Mr. Harry Flaatan, Senior Realty Specialist, U.S. Fish and Wildlife Service, 1875 Century Boulevard, Suite 420, Atlanta, Georgia 30345, Telephone 404/679-7203.

Dated: October 12, 2000.
Judy L. Jones,
Acting Regional Director.

[FR Doc. 00-27465 Filed 10-26-00; 8:45 am]

BILLING CODE 4310-55-M